DEPARTMENT OF ENERGY

Federal Energy Regulatory Commission

[Docket No. ES00-28-002]

Consumers Energy Company; Notice of Application

October 5, 2001.

Take notice that on October 2, 2001, Consumers Energy Company submitted an amendment to its original application in this proceeding, pursuant to section 204 of the Federal Power Act. The amendment seeks authorization to issue up to an additional $1 billion of long-term securities (up to an additional $500 million for general corporate purposes and up to an additional $500 million of first mortgage bonds to be issued solely as security for other long-term issuances).

Any person desiring to be heard or to protest such filing should file a motion to intervene or protest with the Federal Energy Regulatory Commission, 888 First Street, NE., Washington, DC 20426, in accordance with Rules 211 and 214 of the Commission's Rules of Practice and Procedure (18 CFR 385.211 and 385.214). All such motions and protests should be filed on or before October 26, 2001. Protests will be considered by the Commission to determine the appropriate action to be taken, but will not serve to make protestants parties to the proceedings. Any person wishing to become a party must file a motion to intervene. Copies of this filing are on file with the Commission and are available for public inspection. This filing may also be viewed on the Internet at http://www.ferc.fed.us/online/rims.htm (call 202-208-2222 for assistance). Comments, protests and interventions may be filed electronically via the internet in lieu of paper. See, 18 CFR 385.2001(a)(1)(iii) and the instructions on the Commission's web site at http://www.ferc.fed.us/efi/doorbell.htm.

Linwood A. Watson, Jr.,
Acting Secretary.

[FR Doc. 01-25629 Filed 10-11-01; 8:45 am]

BILLING CODE 6717-01-P